NATIONAL AERONAUTICS AND SPACE ADMINISTRATION

[Notice: (14-033)]

NASA Advisory Council; Meeting

AGENCY: National Aeronautics and Space Administration.

ACTION: Notice of meeting.

SUMMARY: In accordance with the Federal Advisory Committee Act, Public Law 92-463, as amended, the National Aeronautics and Space Administration announces a meeting of the NASA Advisory Council (NAC).

DATES: Wednesday, April 16, 2014, 9:00 a.m.-5:00 p.m., Local Time; Thursday, April 17, 2014, 9:00 a.m.-12:30 p.m., Local Time.

ADDRESSES: NASA Headquarters, Room 9H40, Program Review Center (PRC), 300 E Street SW., Washington, DC 20456.

FOR FURTHER INFORMATION CONTACT: Ms. Marla King, NAC Administrative Officer, NASA Headquarters, Washington, DC 20546, 202-358-1148.

SUPPLEMENTARY INFORMATION: The agenda for the meeting will include the following:

—Aeronautics Committee Report

—Human Exploration and Operations Committee Report

—Science Committee Report

—Technology and Innovation Committee Report

The meeting will be open to the public up to the seating capacity of the room. This meeting is also available telephonically and by WebEx. You must use a touch tone phone to participate in this meeting. Any interested person may dial the toll free access number 866-753-1451 or toll access number 203-875-1553, and then the numeric participant passcode: 6957984 followed by the # sign. To join via WebEx, the link is https://nasa.webex.com/, the meeting number on April 16 is 998 887 573, and the password is NACApril16#; the meeting number on April 17 is 994 493 431, and the password is NACApril17#. (Password is case sensitive.) Note: If dialing in, please “mute” your telephone. Attendees will be requested to sign a register and to comply with NASA security requirements, including the presentation of a valid picture ID before receiving access to NASA Headquarters. Foreign nationals attending this meeting will be required to provide a copy of their passport and visa in addition to providing the following information no less than 10 working days prior to the meeting: full name; gender; date/place of birth; citizenship; visa/green card information (number, type, expiration date); passport information (number, country, telephone); employer/affiliation information (name of institution, address, country, telephone); title/position of attendee. To expedite admittance, attendees with U.S. citizenship and Permanent Residents (green card holders) can provide identifying information 3 working days in advance by contacting Ms. Marla King, via email at marla.k.king@nasa.gov or by telephone at 202-358-1148. It is imperative that the meeting be held on this date to accommodate the scheduling priorities of the key participants.

Patricia D. Rausch,
Advisory Committee Management Officer, National Aeronautics and Space Administration.

[FR Doc. 2014-06803 Filed 3-26-14; 8:45 am]

BILLING CODE 7510-13-P